DEPARTMENT OF THE TREASURY

Internal Revenue Service

26 CFR Part 1

[REG-108524-00]

RIN 1545-BD80

Section 1446 Regulations; Withholding on Effectively-Connected Taxable Income Allocable to Foreign Partners; Correction

AGENCY: Internal Revenue Service (IRS), Treasury.

ACTION: Correction to notice of proposed rulemaking and notice of public hearing.

SUMMARY: This document corrects a notice of proposed rulemaking (REG-108524-00) that was published in the Federal Register on Wednesday, May 18, 2005 (70 FR 28743). The document contains regulations providing guidance under section 1446 of the Internal Revenue Code relating to the circumstances under which a partnership may take partner-level deductions and losses into account in computing its withholding tax obligation with respect to a foreign partner's allocable share of effectively connected taxable income.

FOR FURTHER INFORMATION CONTACT: Ronald M. Gootzeit, (202) 622-3860 (not a toll-free number).

SUPPLEMENTARY INFORMATION:

Background

The notice of proposed rulemaking and notice of public hearing (REG-108524-00) that is the subject of these corrections are under section 1446 of the Internal Revenue Code.

Need for Correction

As published, REG-108524-00 contains errors that may prove to be misleading and are in need of clarification.

Correction of Publication

Accordingly, the notice of proposed rulemaking and notice of public hearing (REG-108524-00), that was the subject of FR Doc. 05-9423, is corrected as follows:

1. On page 28743, column 1, in the preamble, under the caption DATES:, last line, the language “must be received by August 16, 2005.” is corrected to read “must be received by September 12, 2005.”.

2. On page 28743, column 2, in the preamble, under the caption FOR FURTHER INFORMATION CONTACT:, line 3, the language “the hearing, Jacqueline Turner at (202)” is corrected to read “the hearing, Richard A. Hurst at (202)”.

3. On page 28744, column 1, in the preamble, under the paragraph heading, “Comments and Public Hearing”, third paragraph, line 8, the language “and eight (8) copies) by August 16,” is corrected to read “and eight (8) copies) by September 12,”.

Cynthia Grigsby,
Acting Chief, Publications and Regulations Branch, Legal Processing Division, Associate Chief Counsel (Procedures and Administration).

[FR Doc. 05-17562 Filed 9-2-05; 8:45 am]

BILLING CODE 4830-01-P